DEPARTMENT OF HEALTH AND HUMAN SERVICES

Statement of Organization, Functions, and Delegations of Authority

AGENCY: Office of the Assistant Secretary for Health, Office of Population Affairs, HHS.

ACTION: Notice.

SUMMARY: The Office of the Assistant Secretary for Health, Office of Population Affairs organization has modified its organizational structure.

DATES: This new organizational structure was approved by the Secretary of Health and Human Services and takes effect on April 6, 2019.

FOR FURTHER INFORMATION CONTACT: Tara Broido, Acting Director, Office of Communications, Office of the Assistant Secretary for Health, 200 Independence Ave. SW, Room 715-G, Washington, DC 20201, Phone 202.690.7694.

SUPPLEMENTARY INFORMATION: Part A (Office of the Secretary, U.S. Department of Health and Human Services) of the Statement of Organization, Functions, and Delegations of Authority of the Department of Health and Human Services (60 FR 27804, dated October 31, 1995, and corrected at 75 FR 53304, August 31, 2010, and amended most recently at 82 FR 3005, dated January 5, 2017) is amended to reflect the reorganization of the Office of Population Affairs (OPA), Office of the Assistant Secretary for Health (OASH). This reorganization is being undertaken to create a more effective structure that better reflects OPA's priorities and streamlines operations. This reorganization realigns Title X family planning project staff in the 10 HHS Regional Offices, currently reporting to the OASH Regional Health Administrators, to report directly to OPA Headquarters; and merges the Office of Adolescent Health along with the Teen Pregnancy Prevention program and other adolescent health activities that it currently administers, into the Office of Population Affairs.

Under Part C, Section C-G, add the current reference: The Office of Population Affairs, headed by the Deputy Assistant Secretary for Population Affairs, will include the Office of Adolescent Health. The Office of Population Affairs will be responsible for implementing and administering the Title X family planning program and will manage the Office of Adolescent Health, which will be headed by a director, will implement and administer the Teen Pregnancy Prevention program and other adolescent health activities.

• Office of Population Affairs

○ Office of Adolescent Health—Teen Pregnancy Prevention Program

Under Part C, section C-G, Organization, revise to include that the Office of Population Affairs will manage the Office of Adolescent Health (OAH) and the activities managed by OAH. Section C-G will incorporate the current reference to section C-R:

The Office of Adolescent Health is headed by a Director who reports to the Assistant Secretary for Health.

Under Section C-G. Functions, retitle all references to the Office of Adolescent Health (ACR) under Part C, Section C-R, to the Office of Population Affairs (ACG).

Under Section C-R. Delete all other organizational references to the Office of Adolescent Health (AGR).

II. Delegations of Authority: All delegations and redelegations of authority made to officials and employees of affected organizational components will continue in them or their successors pending further redelegation, if allowed, provided they are consistent with this reorganization.

(Authority: 44 U.S.C. 3101)

Alex M. Azar II,
Secretary.

[FR Doc. 2019-07124 Filed 4-10-19; 4:15 pm]

BILLING CODE 4150-34-P